NUCLEAR REGULATORY COMMISSION

10 CFR Part 72

[NRC-2018-0075]

RIN 3150-AK12

List of Approved Spent Fuel Storage Casks: NAC International NAC-UMS®; Universal Storage System, Certificate of Compliance No. 1015, Amendment No. 6

Correction

In proposed rule document 2018-22913 beginning on page 53191 in the issue of Monday, October 22, 2018, make the following correction:

On page 53192 the table should read as follows:

Document | ADAMS accession No./web link/ Federal Register citation
Request to Amend Certificate of Compliance No. 1015 for the NAC-UMS® Cask System, dated May 23, 2017 | ML17145A380
Revision of Request to Amend Certificate of Compliance No. 1015 for the NAC-UMS® Cask System, dated January 16, 2018 | ML18018A893
Revision 11 to NAC-UMS® Final Safety Analysis Report for the UMS Universal Storage System | ML16341B102
Proposed CoC No. 1015, Amendment No. 6 | ML18088A174
Proposed Technical Specifications | ML18088A176
Appendix A—Proposed Technical Specifications | ML18088A178
Appendix B—Preliminary Safety Evaluation Report | ML18088A181

[FR Doc. C1-2018-22913 Filed 10-30-18; 8:45 am]

BILLING CODE 1301-00-D